BUREAU OF CONSUMER FINANCIAL PROTECTION

[Docket No. CFPB-2018-0024]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is proposing to revise an existing information collection titled, “Consumer Complaint Intake System Company Portal Boarding Form.”

DATES: Written comments are encouraged and must be received on or before October 1, 2018 to be assured of consideration.

ADDRESSES: Comments in response to this notice are to be directed towards OMB and to the attention of the OMB Desk Officer for the Bureau of Consumer Financial Protection. You may submit comments, identified by the title of the information collection, OMB Control Number (see below), and docket number (see above), by any of the following methods:

• Electronic: http://www.regulations.gov. Follow the instructions for submitting comments.

• Email: OIRA_submission@omb.eop.gov.

• Fax: (202) 395-5806.

• Mail: Office of Management and Budget, New Executive Office Building, Room 10235, Washington, DC 20503.

In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under review”, use the dropdown menu “Select Agency” and select “Consumer Financial Protection Bureau” (recent submissions to OMB will be at the top of the list). The same documentation is also available at http://www.regulations.gov. Requests for additional information should be directed to the Bureau of Consumer Financial Protection, (Attention: PRA Office), 1700 G Street NW, Washington, DC 20552, (202) 435-9575, or email: CFPB_PRA@cfpb.gov. If you require this document in an alternative electronic format, please contact CFPB_Accessibility@cfpb.gov. Please do not submit comments to these email boxes. SUPPLEMENTARY INFORMATION:

Title of Collection: Consumer Complaint Intake System Company Portal Boarding Form.

OMB Control Number: 3170-0054.

Type of Review: Revision of a currently approved collection.

Affected Public: Private sector.

Estimated Number of Respondents: 500.

Estimated Total Annual Burden Hours: 94.

Abstract: Section 1013(b)(3)(A) of the Dodd-Frank Wall Street Reform and Consumer Protection Act, Public Law 111-203, requires the Bureau of Consumer Financial Protection (“the Bureau”) to “facilitate the centralized collection of, monitoring of, and response to consumer complaints regarding consumer financial products or services.” ¹ In furtherance of its statutory mandates related to consumer complaints, the Bureau utilizes a Consumer Complaint Intake System Company Portal Boarding Form (Boarding Form) to sign up companies for access to the secure, web-based Company Portal (Company Portal). The Company Portal allows companies to view and respond to complaints submitted to the Bureau, supports the efficient routing of consumer complaints to companies, and enables a timely and secure response by companies to the Bureau and consumers.² This information collection reflects comments received in response to the May 14, 2018 (83 FR 22254) Notice and Request for Comment, seeking input from the public regarding renewal of the Boarding Form with modifications to improve efficiency and reduce company burden.

¹ Codified at 12 U.S.C. 5493(b)(3)(A). See also Dodd-Frank Act, Section 1034 (discussing responses to consumer complaints), codified at 12 U.S.C. 5534; Section 1021(c)(2) (noting that one of the Bureau's primary functions is “collecting, investigating, and responding to consumer complaints”), codified at 12 U.S.C. 5511(c)(2).

² In addition to the Boarding Form for companies, the Bureau utilizes separate OMB-approved forms to board government agencies and congressional offices onto their own distinct portals to access certain complaint information through OMB Control No. 3170-0057 (Consumer Response Government and Congressional Boarding Forms; expires December 31, 2018).

Request for Comments

The Bureau issued a 60-day Federal Register notice on May 14, 2018, 83 FR 22254, Docket Number: CFPB-2018-0018. Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Dated: August 27, 2018.
Darrin A. King,
Paperwork Reduction Act Officer, Bureau of Consumer Financial Protection.

[FR Doc. 2018-19063 Filed 8-30-18; 8:45 am]

BILLING CODE 4810-AM-P